DEPARTMENT OF THE TREASURY

Office of Foreign Assets Control

31 CFR Part 501

Reporting and Procedures Regulations: Cuban Assets Control Regulations; Economic Sanctions Enforcement Guidelines; Partial Withdrawal

AGENCY: Office of Foreign Assets Control, Treasury.

ACTION: Partial withdrawal of proposed rule.

SUMMARY: This document withdraws in part the proposed rule published on January 29, 2003, relating to the economic sanctions enforcement guidelines.¹ In addition, in the Rules and Regulations section of this issue of the Federal Register, the Treasury Department is issuing an interim final rule—Economic Sanctions Enforcement Procedures for Banking Institutions.

¹ 68 FR 4422-4429 (2003).

FOR FURTHER INFORMATION CONTACT: Assistant Director of Records, (202) 622-2500 (not a toll-free call).

SUPPLEMENTARY INFORMATION:

Partial Withdrawal of Proposed Rule

The proposed rule (68 FR 4422-4429, January 29, 2003) is withdrawn with respect to “banking institutions,” as that term is defined in the interim final rule (“OFAC Economic Sanctions Enforcement Procedures for Banking Institutions”) amending 31 CFR part 501, appearing in the Rules and Regulations section of this issue of the Federal Register.

Approved: December 22, 2005.
Robert W. Werner,
Director, Office of Foreign Assets Control.

Approved: December 23, 2005.
Stuart A. Levey,
Under Secretary of the Treasury, Office of Terrorism and Financial Intelligence.

[FR Doc. 06-277 Filed 1-11-06; 8:45 am]

BILLING CODE 4810-25-P